DEPARTMENT OF HEALTH AND HUMAN SERVICES

Centers for Disease Control and Prevention

[60 Day-03-17]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. CDC is requesting an emergency clearance from OMB to conduct this data collection. Written comments should be received within 14 days of this notice. Send written comments to Anne O'Connor, CDC Assistant Reports Clearance Officer, 1600 Clifton Road, MS D-24, Atlanta, Georgia 30333. OMB is expected to act on this request within 7 days of the close of the comment period.

Proposed Project: Work-Related Assaults Treated in Hospital Emergency Departments—New—National Institute of Occupational Safety and Health (NIOSH), Centers for Disease Control and Prevention (CDC). Workplace violence, both fatal and nonfatal, is recognized as an important occupational safety and health issue. Various data systems have provided fairly detailed information on fatal workplace violence, but much less is known about the circumstances and risk factors for nonfatal workplace violence. As well, a number of strategies have been suggested for reducing the incidence and severity of workplace violence in various settings (e.g., taxicabs, health care, law enforcement, social services), but again, little empirical knowledge exists about what has been implemented and what impact such strategies may have. The report, Workplace Violence: A Report to the Nation, published by the University of Iowa based on recommendations from a workshop of experts, states, “* * * research focused on a much broader understanding of the scope and impact of workplace violence is urgently needed to reduce the human and financial burden of this significant public health problem.” In 2000, there were 677 workplace homicides in the U.S. From 1993-1999, there were an estimated 1.7 million nonfatal victimizations “while at work or on duty” every year, accounting for 18% of all violent crime during the 7-year period. In December 2001, Congress directed NIOSH to develop an intramural and extramural prevention research program that will target all aspects of workplace violence.

The Consumer Product Safety Commission (CPSC) maintains a database of injuries treated in a nationally representative sample of U.S. hospital emergency departments (Eds) called the National Electronic Injury Surveillance System (NEISS). Data routinely collected through NEISS include a brief narrative description of the injury event and basic demographic information such as intent and mechanism of injury, work-relatedness, principal diagnosis, part of the body affected, location where the injury occurred, involvement of consumer products, and disposition at ED discharge. For assaults, summary data are also being collected in the relationship of the perpetrator to the injured person and the context (i.e., altercation, robbery, sexual assault, etc.). For work-related cases, occupation and industry information is collected. The data system does not include any information on issues such as the specific workplace circumstances and risk factors for workplace violence; security measures in the workplace and whether they were utilized/used appropriately; training-in-workplace violence risk factors and prevention strategies; previous incidents of workplace violence; return-to-work after assault; and, other specific workplace violence information.

For the last 10 years, NIOSH has been collaborating with CPSC to collect surveillance data on work-related injuries treated in the NEISS Eds. In addition, NIOSH has utilized the capacity of NEISS to incorporate follow-back surveys. Follow-back surveys allow collection of first-hand, detailed knowledge that does not exist in administrative or other records. CPSC routinely uses this mechanism to collect information of various types of injuries (e.g., fireworks-related injuries, injuries to children in baby walkers, etc.). NIOSH has used this mechanism to collect information on the circumstances of the injury, training, protective equipment (if appropriate), and other issues important to more fully understand the risk factors for work-related injuries and to make appropriate recommendations for preventing other such injuries in the future.

The current proposed study will consist of a telephone interview survey of workers treated in NEISS hospital Eds for injuries sustained during a work-related assault. The data collection will occur over a one year period. CPSC will hire a contractor to conduct the actual telephone interviews. NIOSH will review potential cases to identify those cases that should be forwarded to the contractor for interview. The survey includes an extended narrative description of the injury incident as well as items regarding general workplace organization; personal characteristics of the worker; work tasks at the time of the assault; training on workplace violence risk factors and prevention strategies; security measures in place and how they impacted the outcome of the incident; and return to work after the assault. This study will provide critical information for understanding the nature and impact of nonfatal assault among U.S. workers. In combination with data collected from other sources, this information will ultimately contribute to the prevention of violence in the workplace. The only cost to respondents is their time to participate in the data collection.

Survey | No. of respondents | No. of responses/respondent | Avg. burden/response (in hrs.) | Total burden (hours)
Work-related assaults treated in hospital Eds | 1,600 | 1 | 20/60 | 533
Total |  |  |  | 533

Dated: November 20, 2002.
Nancy E. Cheal,
Acting Associate Director for Policy, Planning and Evaluation Centers for Disease Control and Prevention.

[FR Doc. 02-30220 Filed 11-26-02; 8:45 am]

BILLING CODE 4163-18-P